DEPARTMENT OF ENERGY

Federal Energy Regulatory Commission

Combined Notice of Filings #2

Take notice that the Commission received the following electric rate filings:

Docket Numbers: ER10-2253-014; ER10-3319 018.

Applicants: Astoria Energy LLC, Astoria Energy II LLC.

Description: Joint MBR Triennial of Astoria Energy LLC, et al.

Filed Date: 6/29/17.

Accession Number: 20170629-5261.

Comments Due: 5 p.m. ET 8/28/17.

Docket Numbers: ER10-2480-010.

Applicants: Berkshire Power Company, LLC.

Description: Triennial MBR Filing of Berkshire Power Company, LLC.

Filed Date: 6/29/17.

Accession Number: 20170629-5271.

Comments Due: 5 p.m. ET 8/28/17.

Docket Numbers: ER10-2527-004; ER10-1595 008; ER10-1598-008; ER10-1616-008; ER10-1618-008; ER10-2532-010; ER10-2533-004; ER10-2535-005; ER10-2960-007; ER10-3168-021; ER15-356-007; ER15-357-007; ER17-1636-002.

Applicants: Allegheny Ridge Wind Farm, LLC, ArcLight Energy Marketing, LLC, Astoria Generating Company, L.P., Chief Conemaugh Power, LLC, Chief Keystone Power, LLC, Crescent Ridge LLC, Crete Energy Venture, LLC, Great River Hydro, LLC, GSG, LLC, Lincoln Generating Facility, LLC, Mendota Hills, LLC, New Covert Generating Company, LLC, Rolling Hills Generating, L.L.C.

Description: Updated Market Power Analysis for the Northeast Region of Allegheny Ridge Wind Farm, LLC, et al.

Filed Date: 6/29/17.

Accession Number: 20170629-5259.

Comments Due: 5 p.m. ET 8/28/17.

Docket Numbers: ER10-2906-009; ER10-2908-009; ER10-2910-009; ER11-4669-003; ER11-4670-003; ER12-709-002.

Applicants: Morgan Stanley Capital Group Inc., MS Solar Solutions Corp., Power Contract Financing II, L.L.C., NaturEner Montana Wind Energy, LLC, NaturEner Power Watch, LLC, NaturEner Wind Watch, LLC.

Description: Updated Market Power Analysis for the Northeast Region of the Morgan Stanley Public Utilities, et al.

Filed Date: 6/29/17.

Accession Number: 20170629-5267.

Comments Due: 5 p.m. ET 8/28/17.

Docket Numbers: ER10-2924-011.

Applicants: Kleen Energy Systems, LLC.

Description: MBR Triennial Filing of Kleen Energy Systems, LLC.

Filed Date: 6/29/17.

Accession Number: 20170629-5273.

Comments Due: 5 p.m. ET 8/28/17.

Docket Numbers: ER11-4436-003; ER11-2724-005; ER10-2502-004; ER10-2473-004; ER10-2472-004.

Applicants: Black Hills Power, Inc., Cheyenne Light Fuel & Power Company, Black Hills/Colorado Electric Utility Co, Black Hills Wyoming, LLC, Black Hills Colorado IPP, LLC.

Description: Supplement to June 30, 2016 Updated Market Power Analysis of the Black Hills MBR Sellers for the Northwest Region.

Filed Date: 6/29/17.

Accession Number: 20170629-5270.

Comments Due: 5 p.m. ET 7/20/17.

Docket Numbers: ER12-1195-003; ER10-2310-004; ER10-2311-004; ER10-2312-004; ER10-2314-004; ER14-2486-001; ER15-595-001; ER15-924-001; ER15-926-001; ER15-927-001.

Applicants: Camden County Energy Recovery Associates, L.P., Covanta Delaware Valley, L.P., Covanta Energy Marketing LLC, Covanta Essex Company, Covanta Fairfax, Inc., Covanta Haverhill Associates, LLC, Covanta Hempstead Company, Covanta Niagara I, LLC, Covanta Plymouth Renewable Energy, LLC, Covanta Union, LLC.

Description: Updated Market Power Analysis for the Northeast Region of the Covanta Northeast MBR Sellers.

Filed Date: 6/29/17.

Accession Number: 20170629-5275.

Comments Due: 5 p.m. ET 8/28/17.

Docket Numbers: ER17-1963-000.

Applicants: Duke Energy Progress, LLC.

Description: Market-Based Triennial Review Filing: Southeast Triennial Filing 2017 to be effective 7/1/2017.

Filed Date: 6/30/17.

Accession Number: 20170630-5011.

Comments Due: 5 p.m. ET 8/29/17.

Docket Numbers: ER17-1964-000.

Applicants: Duke Energy Progress, LLC.

Description: Market-Based Triennial Review Filing: Southeast Triennial 2017 (Corrected) to be effective 8/31/2017.

Filed Date: 6/30/17.

Accession Number: 20170630-5065.

Comments Due: 5 p.m. ET 8/29/17.

Docket Numbers: ER17-1965-000.

Applicants: MidAmerican Energy Company.

Description: Compliance filing: Market-Based Rate Tariff to be effective 7/1/2017.

Filed Date: 6/30/17.

Accession Number: 20170630-5067.

Comments Due: 5 p.m. ET 7/21/17.

Docket Numbers: ER17-1966-000.

Applicants: MidAmerican Energy Services, LLC.

Description: Compliance filing: Market-Based Rate Tariff to be effective 7/1/2017.

Filed Date: 6/30/17.

Accession Number: 20170630-5068.

Comments Due: 5 p.m. ET 7/21/17.

Docket Numbers: ER17-1967-000.

Applicants: Duke Energy Carolinas, LLC.

Description: Market-Based Triennial Review Filing: Southeast Triennial Filing 2017 to be effective 7/1/2017.

Filed Date: 6/30/17.

Accession Number: 20170630-5071.

Comments Due: 5 p.m. ET 8/29/17.

Docket Numbers: ER17-1968-000.

Applicants: Duke Energy Beckjord, LLC.

Description: Market-Based Triennial Review Filing: Southeast Triennial Filing 2017 to be effective 7/1/2017.

Filed Date: 6/30/17.

Accession Number: 20170630-5073.

Comments Due: 5 p.m. ET 8/29/17.

Docket Numbers: ER17-1969-000.

Applicants: Indiana Michigan Power Company, PJM Interconnection, L.L.C.

Description: § 205(d) Rate Filing: Indiana Michigan submits Preliminary Development Agreement No. 4738 to be effective 6/9/2017.

Filed Date: 6/30/17.

Accession Number: 20170630-5075.

Comments Due: 5 p.m. ET 7/21/17.

Docket Numbers: ER17-1970-000.

Applicants: Duke Energy Commercial Enterprises, Inc.

Description: Market-Based Triennial Review Filing: Southeast Triennial Filing 2017 to be effective 7/1/2017.

Filed Date: 6/30/17.

Accession Number: 20170630-5076.

Comments Due: 5 p.m. ET 8/29/17.

Docket Numbers: ER17-1971-000.

Applicants: Duke Energy Florida, LLC.

Description: Market-Based Triennial Review Filing: Southeast Triennial Filing 2017 to be effective 7/1/2017.

Filed Date: 6/30/17.

Accession Number: 20170630-5078.

Comments Due: 5 p.m. ET 8/29/17.

Docket Numbers: ER17-1972-000.

Applicants: Duke Energy Renewable Services, LLC.

Description: Market-Based Triennial Review Filing: Southeast Triennial Filing 2017 to be effective 7/1/2017.

Filed Date: 6/30/17.

Accession Number: 20170630-5089.

Comments Due: 5 p.m. ET 8/29/17.

Docket Numbers: ER17-1973-000.

Applicants: Duke Energy SAM, LLC.

Description: Market-Based Triennial Review Filing: Southeast Triennial Filing 2017 to be effective 8/31/2017.

Filed Date: 6/30/17.

Accession Number: 20170630-5091.

Comments Due: 5 p.m. ET 8/29/17.

Docket Numbers: ER17-1974-000.

Applicants: PJM Interconnection, L.L.C.

Description: § 205(d) Rate Filing: Wholesale Market Participation Agreement No. 4742; Queue No. AC1-045 to be effective 6/28/2017.

Filed Date: 6/30/17.

Accession Number: 20170630-5109.

Comments Due: 5 p.m. ET 7/21/17.

Docket Numbers: ER17-1975-000.

Applicants: PJM Interconnection, L.L.C.

Description: § 205(d) Rate Filing: Wholesale Market Participation Agreement No. 4743; Queue No. AC1-046 to be effective 6/28/2017.

Filed Date: 6/30/17.

Accession Number: 20170630-5142.

Comments Due: 5 p.m. ET 7/21/17.

Docket Numbers: ER17-1976-000.

Applicants: Helix Ironwood, LLC.

Description: § 205(d) Rate Filing: Notice of Succession for Reactive Service Rate Schedule to be effective 6/2/2017.

Filed Date: 6/30/17.

Accession Number: 20170630-5143.

Comments Due: 5 p.m. ET 7/21/17.

Docket Numbers: ER17-1977-000.

Applicants: PJM Interconnection, L.L.C.

Description: § 205(d) Rate Filing: Amendment to Service Agreement No. 2961, Queue No. P11 to be effective6/15/2011.

Filed Date: 6/30/17.

Accession Number: 20170630-5144.

Comments Due: 5 p.m. ET 7/21/17.

Docket Numbers: ER17-1978-000.

Applicants: PJM Interconnection, L.L.C.

Description: § 205(d) Rate Filing: Wholesale Market Participation Agreement No. 4744; Queue No. AC1-047 to be effective 6/28/2017.

Filed Date: 6/30/17.

Accession Number: 20170630-5152.

Comments Due: 5 p.m. ET 7/21/17.

Docket Numbers: ER17-1979-000.

Applicants: Southwest Power Pool, Inc.

Description: § 205(d) Rate Filing: 2415R7 Kansas Municipal Energy Agency NITSA and NOA to be effective 9/1/2017.

Filed Date: 6/30/17.

Accession Number: 20170630-5169.

Comments Due: 5 p.m. ET 7/21/17.

Docket Numbers: ER17-1980-000.

Applicants: Southern California Edison Company.

Description: § 205(d) Rate Filing: Amended Service Agreement City of Banning Service Agreement No. 3 to be effective 9/1/2017.

Filed Date: 6/30/17.

Accession Number: 20170630-5189.

Comments Due: 5 p.m. ET 7/21/17.

Docket Numbers: ER17-1981-000.

Applicants: Big Savage, LLC.

Description: § 205(d) Rate Filing: Market-Based Rate Tariff Updates to be effective 8/28/2017.

Filed Date: 6/30/17.

Accession Number: 20170630-5203.

Comments Due: 5 p.m. ET 7/21/17.

Docket Numbers: ER17-1982-000.

Applicants: Big Sky Wind, LLC.

Description: § 205(d) Rate Filing: Market-Based Rate Tariff Updates to be effective 8/28/2017.

Filed Date: 6/30/17.

Accession Number: 20170630-5207.

Comments Due: 5 p.m. ET 7/21/17.

Docket Numbers: ER17-1983-000.

Applicants: EverPower Commercial Services LLC.

Description: § 205(d) Rate Filing: Market-Based Rate Tariff Updates to be effective 8/28/2017.

Filed Date: 6/30/17.

Accession Number: 20170630-5209.

Comments Due: 5 p.m. ET 7/21/17.

Docket Numbers: ER17-1984-000.

Applicants: Highland North LLC.

Description: § 205(d) Rate Filing: Market-Based Rate Tariff Updates to be effective 8/28/2017.

Filed Date: 6/30/17.

Accession Number: 20170630-5210.

Comments Due: 5 p.m. ET 7/21/17.

Docket Numbers: ER17-1985-000.

Applicants: Howard Wind LLC.

Description: § 205(d) Rate Filing: Market-Based Rate Tariff Updates to be effective 8/28/2017.

Filed Date: 6/30/17.

Accession Number: 20170630-5211.

Comments Due: 5 p.m. ET 7/21/17.

Take notice that the Commission received the following electric securities filings:

Docket Numbers: ES17-35-000.

Applicants: Northern Indiana Public Service Company.

Description: Supplement to June 9, 2017 Application for Authorization to Issue Short-Term Debt of Northern Indiana Public Service Company.

Filed Date: 6/29/17.

Accession Number: 20170629-5252.

Comments Due: 5 p.m. ET 7/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2017.
Kimberly D. Bose,
Secretary.

[FR Doc. 2017-14330 Filed 7-7-17; 8:45 am]

BILLING CODE 6717-01-P